DEPARTMENT OF THE INTERIOR

Fish and Wildlife Service

Recovery Plan for Holmgren milk-vetch (Astragalus holmgreniorum) and Shivwits milk-vetch (Astragalus ampullarioides)

AGENCY: Fish and Wildlife Service, Interior.

ACTION: Notice of availability.

SUMMARY: We, the U.S. Fish and Wildlife Service (Service), announce the availability of the final Holmgren milk-vetch (Astragalus holmgreniorum) and Shivwits milk-vetch (Astragalus ampullarioides) recovery plan. These species are federally listed as endangered under the Endangered Species Act of 1973, as amended (Act).

ADDRESSES: You may obtain a copy of the recovery plan by any of the following means:

1. World Wide Web: http://endangered.fws.gov/recovery/index.html#plans; or

2. U.S. mail or in-person pickup: U.S. Fish and Wildlife Service, Utah Field Office, 2369 West Orton Circle, Suite 50, West Valley City, Utah 84119.

FOR FURTHER INFORMATION CONTACT: Field Supervisor, at the above address (telephone 801-975-3330).

SUPPLEMENTARY INFORMATION:

Background

Restoring an endangered or threatened animal or plant to the point where it is again a secure, self-sustaining member of its ecosystem is a primary goal of the Service's endangered species program. To help guide the recovery effort, the Service is working to prepare recovery plans for the federally listed species native to the United States where a plan will promote the conservation of the species. Recovery plans help guide the recovery effort by describing actions considered necessary for the conservation of the species, establishing criteria for downlisting and delisting listed species, and estimating time and cost for implementing the measures needed for recovery measures.

Section 4(f) of the Act (16 U.S.C. 1531 et seq.) requires that public notice and an opportunity for public review and comment be provided during recovery plan development. In fulfillment of this requirement, we made the draft recovery plan for Holmgren milk-vetch (Astragalus holmgreniorum) and Shivwits milk-vetch (Astragalus ampullarioides) available for public comment from August 1 through August 31, 2006 (71 FR 43514, August 1, 2006). In our preparation of the final recovery plan, we considered information provided to us during the comment period, and we have summarized this information in an appendix to the recovery plan. We will provide substantive comments regarding recovery plan implementation to appropriate Federal or other entities so that they can take comments into account during the course of implementing recovery actions.

Holmgren milk-vetch and Shivwits milk-vetch are endemic to the Mojave Desert around St. George, Utah. These perennials were listed as endangered in October 2001 (66 FR 49560, September 28, 2001) because of their rarity and declining population trends, as well as the threats of urban development, off-road vehicle use, grazing, displacement by invasive plants, and mineral development. We proposed critical habitat for these species on March 29, 2006 (71 FR 15965). For the purpose of recovery, each species comprises six extant populations located in Washington County, Utah, with one Holmgren milk-vetch population extending into Mohave County, Arizona. This also represents the known historic distribution, although it is probable that both species occupied more habitat in the past.

Holmgren milk-vetch occurs at elevations between 756 and 914 meters (m) (2,480 and 2,999 feet (ft)) in areas that drain to the Santa Clara and Virgin Rivers. It is typically found on the skirt edges of hill and plateau formations slightly above or at the edge of drainage areas; it occurs on soils characterized by small stone and gravel deposits and where living cover is less than 20 percent of the landscape. Shivwits milk-vetch is found in isolated pockets of Chinle and Moenave soils around St. George. Occupied sites are small, and populations are found between 920 and 1,330 m (3,018 and 4,363 ft) in elevation in sparsely vegetated habitat with an average 12 percent cover. Shivwits milk-vetch is thinly and discontinuously distributed within its habitat, and is found in dense patches. Depending on precipitation, Holmgren milk-vetch has variable seedling output, followed by a low rate of survivorship, limiting the number of reproductive adults within a population; Shivwits milk-vetch is constrained by the isolation of appropriate soil substrate and limited mechanisms for seed dispersal.

Recovery of Holmgren milk-vetch and Shivwits milk-vetch will hinge on conservation of extant populations and establishment of enough additional populations to ensure long-term demographic and genetic viability. This will require the active involvement of experts and the public, as well as a continuing recognition of the role each milk-vetch plays in the ecology of southwestern Utah and, in the case of Holmgren milk-vetch, northwestern Arizona. Because of the biological and historical uncertainties regarding the status and recovery potential of these species, the recovery strategy is necessarily contingent on a growing understanding of both species and their ecological requirements. Consequently, a dynamic and adaptive approach will be key to making effective progress toward full recovery.

The objective of the recovery plan is to provide a framework for the recovery of the Holmgren milk-vetch and Shivwits milk-vetch so that protection by the Act is no longer necessary. We think the following actions are among those necessary to accomplish this objective—(1) Conserve known extant Holmgren milk-vetch and Shivwits milk-vetch populations and their habitat; (2) Locate and conserve additional extant populations, if any; (3) Monitor Holmgren milk-vetch and Shivwits milk-vetch sites for population information and trends; (4) Establish a set of need-based research priorities aimed at abating or reducing threats and increasing population health and numbers; (5) Develop and implement a rangewide strategy for augmentation and/or establishment of milk-vetch populations; (6) Augment extant populations and/or establish new populations of each species in accordance with the rangewide strategy; (7) Promote effective communications with partners and stakeholders regarding the milk-vetches' recovery needs and progress; (8) Develop and implement educational and outreach programs; (9) Provide oversight and support for implementation of recovery actions; (10) Establish a technical working group to regularly review the status of the species and track the effectiveness of recovery actions; (11) Revise the recovery program when indicated by new information and recovery progress.

Authority: The authority for this action is section 4(f) of the Endangered Species Act, 16 U.S.C. 1533(f).

Dated: September 7, 2006.
Sharon R. Rose,
Acting Deputy Regional Director, Denver, Colorado.

[FR Doc. E6-16043 Filed 9-28-06; 8:45 am]

BILLING CODE 4310-55-P